DEPARTMENT OF COMMERCE

International Trade Administration

Notice of Vacancies on the United States-Mexico Energy Business Council

AGENCY: International Trade Administration, Department of Commerce.

ACTION: Notice.

SUMMARY: In 2016, the Governments of the United States and Mexico established the U.S.-Mexico Energy Business Council (the “Council”). This notice announces three membership opportunities for appointment as U.S. representatives to the U.S. Section of the Council for a term ending in June 2020.

DATES: All applications must be received by the Office of North America by 5:00 p.m. Eastern Standard Time (EST) on July 8, 2019.

ADDRESSES: Please submit applications to Leslie Wilson, International Trade Specialist, Office of North America, U.S. Department of Commerce either by email at Leslie.Wilson@trade.gov (preferred method) or by mail to U.S. Department of Commerce, 1401 Constitution Avenue NW, Room 30014, Washington, DC 20230.

FOR FURTHER INFORMATION CONTACT: Leslie Wilson, Office of North America, U.S. Department of Commerce, telephone: (202) 482-0704, email: Leslie.Wilson@trade.gov.

SUPPLEMENTARY INFORMATION: The U.S. Department of Commerce, the U.S. Department of Energy, the Ministry of Economy of the United Mexican States, and the Ministry of Energy of the United Mexican States established the Council in February 2016. The objective of the Council is to bring together representatives of the respective energy industries of the United States and Mexico to discuss issues of mutual interest, particularly ways to strengthen the economic and commercial ties between energy industries in the two countries, and communicating actionable, non-binding recommendations to the U.S. and Mexican Governments.

For more information, please consult the Terms of Reference of the Council (copy and paste link into browser): https://www.trade.gov/hled/documents/Signed%20US-MEX%20Energy%20Business%20Council%20Terms%20(May%202016%20-%20English).pdf.

The Department of Commerce is currently seeking candidates for three membership positions on the U.S. Section of the Council. Each applicant must be a senior representative (e.g., Chief Executive Officer, Vice President, Regional Manager, Senior Director, or holder of a similar position) of a U.S.-owned or controlled individual company, trade association, or private sector organization that is incorporated in and has its main headquarters in the United States and whose activities include a focus on the manufacture, production, commercialization and/or trade in goods and services for the energy industry in Mexico. Each applicant must also be a U.S. citizen, or otherwise legally authorized to work in the United States, and be able to travel to Mexico or locations in the United States to attend Council meetings, as well as U.S. Section and Committee meetings. In addition, the applicant may not be a registered foreign agent under the Foreign Agents Registration Act of 1938, as amended.

Applications for membership in the U.S. Section by eligible individuals will be evaluated on the following criteria:

—A demonstrated commitment by the entity to be represented to the Mexican market, including as applicable either through exports or investment.

—A demonstrated strong interest in Mexico and its economic development.

—The ability to offer to the work of the Council a broad perspective and business experience specific to the energy industry.

—The ability to address cross-cutting issues that affect the entity's entire energy industry sub-sector.

—The ability to dedicate organizational resources to initiate and be responsible for activities in which the Council will be active.

U.S. Section members will also be selected on the basis of who is best qualified to carry out the objectives of the Council to:

—Promote increased two-way investment in the energy industry;

—Promote two-way trade in goods and services produced by and used in the energy industry, including the oil and gas, renewable energy, electricity, nuclear energy, and energy efficiency sub-sectors;

—Promote the development of binational value chains in the production of goods and services in the energy sector;

—Promote the development of modern energy infrastructure and bolster energy efficiency and security;

—Foster an enabling environment for the rapid development, deployment, and integration of new energy industry technologies—including clean renewable energy technologies—into the marketplace;

—Improve competitiveness through innovation and entrepreneurship in the energy industry, to include the promotion of technology exchanges and research partnerships; and

—Partner in skills development to create solutions in training and education to address evolving energy industry workforce needs.

In selecting members of the U.S. Section, the Department will attempt to ensure that the Section represents a cross-section of small, medium-sized and large firms.

U.S. Section members will receive no compensation for their participation in Council-related activities. They shall not be considered as special government employees. Individual U.S. Section members will be responsible for all travel and related expenses associated with their participation in the Council, including attendance at Committee and Section meetings. Only appointed U.S. Section members may participate in Council meetings; Substitutes and alternates may not be designated. U.S. Section members are expected to serve for two-year terms, but may be reappointed.

To apply for membership in the U.S. Section, please submit the following information as instructed in the ADDRESS and DATES captions above:

—Name(s) and title(s) of the applicant;

—Name and address of the headquarters of the entity that employs the applicant;

—Location of incorporation or establishment;

—Size of the represented entity, in terms of annual sales and number of employees;

—As applicable, the size of the entity's export trade, investment, and nature of operations or interest in Mexico;

—And a brief statement of why the applicant should be considered, including information about the applicant's ability to initiate and be responsible for activities in which the Council will be active.

All applicants will be notified of whether they have been selected once the application window closes and selection of U.S. Section members has been made.

Dated: June 11, 2019.
Geri Word,
Director for the Office of North America.

[FR Doc. 2019-12661 Filed 6-14-19; 8:45 am]

BILLING CODE 3510-HE-P